COMMISSION ON CIVIL RIGHTS

Notice of Public Meeting of the New York Advisory Committee

AGENCY: U.S. Commission on Civil Rights.

ACTION: Notice of meeting.

SUMMARY: Notice is hereby given, pursuant to the provisions of the rules and regulations of the U.S. Commission on Civil Rights (Commission) and the Federal Advisory Committee Act that the New York Advisory Committee (Committee) will hold a series of meetings via WebEx on Friday, June 4; Friday, June 18; and Friday, June 25, 2021 from 12:00 p.m. to 5:00 p.m. ET for the purpose of hearing testimony on potential racial discrimination in eviction policies and enforcement in New York, with a focus on Buffalo, Albany and New York City.

DATES: The meetings will be held on:

Friday, June 4, 2021 from 12:00 p.m. to 5:00 p.m. Eastern Time

Friday, June 18, 2021 from 12:00 p.m. to 5:00 p.m. Eastern Time

Friday, June 25, 2021 from 12:00 p.m. to 5:00 p.m. Eastern Time.

ADDRESSES:

MANDARIN AND SPANISH CALL-IN INFORMATION

• To join (audio only) (MANDARIN) Dial: 800-367-2403; Conference ID: 8858192

• To join (audio only) (SPANISH) Dial: 800-353-6461; Conference ID: 7895312

• If joining by phone and viewing slides through WebEx, do not connect to WebEx audio.

WEB ACCESS AND ENGLISH CALL-IN INFORMATION

June 4, 2021 Briefing

• WebEx Link for Audio and Video: https://tinyurl.com/NYBriefingJune4

• Audio only: 800-360-9505; Access Code: 199 891 0456

June 18, 2021 Briefing

• WebEx Link: https://tinyurl.com/NYBriefingJune18

• Audio only: 800-360-9505; Access Code: 199 894 3105

June 25, 2021 Briefing

• WebEx Link: https://tinyurl.com/NYBriefingJune25

• Audio only: 800-360-9505; Access Code: 199 491 6990.

FOR FURTHER INFORMATION CONTACT: Mallory Trachtenberg, DFO, at mtrachtenberg@usccr.gov or 202-809-9618.

SUPPLEMENTARY INFORMATION: Members of the public can listen to the discussion. This meeting is available to the public through the following toll-free call-in number. An open comment period will be provided to allow members of the public to make a statement as time allows. The conference operator will ask callers to identify themselves, the organizations they are affiliated with (if any), and an email address prior to placing callers into the conference call. Callers can expect to incur charges for calls they initiate over wireless lines, and the Commission will not refund any incurred charges. Callers will incur no charge for calls they initiate over land-line connections to the toll-free telephone number. Persons with hearing impairments may also follow the proceedings by first calling the Federal Relay Service at 1-800-977-8339 and providing the Service with the conference call number and conference ID number. To request additional accommodations, please email mtrachtenberg@usccr.gov at least 7 days prior to the meeting for which accommodations are requested.

Members of the public are also entitled to submit written comments; the comments must be received in the regional office within 30 days following the meeting. Written comments may be emailed to Mallory Trachtenberg at mtrachtenberg@usccr.gov in the Regional Programs Unit Office/Advisory Committee Management Unit. Persons who desire additional information may contact the Regional Programs Unit at 202-809-9618.

Records generated from this meeting may be inspected and reproduced at the Regional Programs Unit Office, as they become available, both before and after the meeting. Records of the meeting will be available via https://www.facadatabase.gov/FACA/apex/FACAPublicCommittee?id=a10t0000001gzmAAAQ under the Commission on Civil Rights, New York Advisory Committee link. Persons interested in the work of this Committee are also directed to the Commission's website, http://www.usccr.gov, or may contact the Regional Programs Unit office at the above email or phone number.

JUNE 4, 2021 AGENDA

12:00-2:00 p.m.: Researchers Panel

• 12:00 p.m.-1:00 p.m.: Invited Speakers

• 1:00 p.m.-2:00 p.m.: Committee Member Q&A

2:00-2:15 p.m.: Break 1

2:15-4:15 p.m.: Academics Panel

• 2:15-3:15 p.m.: Invited Speakers

• 3:15-4:15 p.m.: Committee Member Q&A

4:15-4:30 p.m.: Break 2

4:30-5:00 p.m.: Public Comment

JUNE 18, 2021 AGENDA

12:00-2:00 p.m.: Advocates Panel

• 12:00-1:00 p.m.: Invited Speakers

• 1:00-2:00 p.m.: Committee Member Q&A

2:00-2:15 p.m.: Break 1

2:15-4:15 p.m.: Government Panel

• 2:15-3:15 p.m.: Invited Speakers

• 3:15-4:15 p.m.: Committee Member Q&A

4:15-4:30 p.m.: Break 2

4:30-5:00 p.m.: Public Comment

JUNE 25, 2021 AGENDA

12:00-1:00 p.m.: Multi-Sector Panel 1

• 12:00-12:30 p.m.: Invited Speakers

• 12:30-1:00 p.m.: Committee Member Q&A

1:00-2:00 p.m.: Multi-Sector Panel 2

• 1:00-1:30 p.m.: Invited Speakers

• 1:30-2:00 p.m.: Committee Member Q&A

2:00-2:15 p.m.: Break 1

2:15-4:15 p.m.: Open Forums

• 2:15-3:15 p.m.: Landlords

• 3:15-4:15 p.m.: Renters

4:15-4:30 p.m.: Break 2

4:30-5:00 p.m.: Public Comment

Dated: April 27, 2021.
David Mussatt,
Supervisory Chief, Regional Programs Unit.

[FR Doc. 2021-09086 Filed 4-29-21; 8:45 am]

BILLING CODE P